DEPARTMENT OF COMMERCE

Minority Business Development Agency

[Docket No.: 240229-0064]

Minority Business Development Agency's Request for Public Comment and Notice of Tribal Consultation Meetings

AGENCY: Minority Business Development Agency, Department of Commerce

ACTION: Notice of meeting and request for comments.

SUMMARY: The Minority Business Development Agency (MBDA) plans to establish a period for the submission and acceptance of written comments from the public through Sunday, June 16, 2024 and conduct virtual Tribal consultation meetings on Friday, May 17, 2024.

DATES: The Tribal consultation meetings will be held virtually on Friday, May 17, 2024. Additional information regarding the consultation meetings will be posted on MBDA's website at https://www.mbda.gov/tribalconsult2024. The Tribal consultation meetings will be recorded and transcribed so that MBDA can retain valuable input and feedback.

ADDRESSES: Please submit all comments in response to the questions presented in this notice at www.regualtions.gov. To access the docket where comments may be submitted, please enter “DOC-2024-0003” in the search bar. Written comments must be submitted no later than 11:59 p.m. EDT, June 16, 2024.

FOR FURTHER INFORMATION CONTACT: Mr. Curtis Doster, Jr., Associate Director, Office of Legislative, Education and Intergovernmental Affairs, Minority Business Development Agency, at (202) 482-2332; or by email at MBDA-OLIA@mbda.gov.

SUPPLEMENTARY INFORMATION:

I. Background

Pursuant to Executive Order 13175, “Consultation and Coordination with Indian Tribal Governments,” the Federal government has established a practice of conducting consultations with Tribal governments that are designed to provide “regular and meaningful consultation and collaboration with Tribal officials in the development of Federal policies that have Tribal implications[.]” The requirements under E.O. 13175 are currently implemented by the United States Department of Commerce under Department Administrative Order (DAO) 218-8, effective April 26, 2012. The Department of Commerce further sets out its policy in the Tribal Consultation Policy of the U.S. Department of Commerce, available at: https://www.commerce.gov/files/tribal-consultation-and-coordination-policy-us-department-commerce. The U.S. Government has additionally reiterated its commitment to improving accountable consultation processes in Executive Order 14112, “Reforming Federal Funding and Support for Tribal Nations to Better Embrace Our Trust Responsibilities and Promote the Next Era of Tribal Self-Determination,” the Presidential Memorandum of November 30, 2022 (Uniform Standards for Tribal Consultation), and the Presidential Memorandum of January 26, 2021 (Tribal Consultation and Strengthening Nation-to-Nation Relationships).

MBDA's Office of Legislative, Education, and Intergovernmental Affairs (OLEIA) serves as the focal point for Tribal consultation on policy, regulatory and legislative issues that will have a direct impact on American Indian, Alaska Native, and Native Hawaiian (AIANNH) communities. The Tribal consultation meetings will be conducted in conjunction with MBDA's Office of Business Centers, Office of Data, Research and Evaluation and Office of Grants Management which document evidence and design and manage business development services, including services that may be of interest to Native American, Alaska Native and Native Hawaiian entrepreneurs and Tribe-owned businesses. Outreach specific to the AIANNH populations is one part of the overall efforts of MBDA to ensure members of Native communities are able to learn about and access programs and services.

MBDA is the only Federal agency created specifically to foster the growth and global competitiveness of minority business enterprises (MBEs). MBDA actively promotes the growth and expansion of MBEs by offering management and technical assistance, including through a nationwide network of AIANNH projects.

AIANNH projects address strategic initiatives that may include innovation and entrepreneurship (e.g., business training, access to capital, incubators, accelerators, Federal program coaching); strategic planning (e.g., fostering, developing and/or implementing entrepreneurial and economic development); and transformative projects (e.g., support for MBEs involved in infrastructure focused public-private partnerships, and broadband).

MBDA awarded thirteen AIANNH projects during the 2021 competition cycle under funding opportunity number MBDA-OBD-2021-2006916. MBDA designated at least one award in each of these service locations: (1) Alaska; (2) California; (3) Northwest Area (Idaho, Oregon and Washington); (4) Rocky Mountain Area (Montana and Wyoming); (5) Western Area (Arizona, Nevada, and Utah); (6) Southwest Area (Colorado and New Mexico); (7) Great Plains Area (Nebraska, North Dakota and South Dakota); (8) Southern Plains Area (Kansas, Oklahoma and Texas); (9) Midwest Area (Iowa, Michigan, Minnesota, and Wisconsin); (10) Eastern Area (Alabama, Arkansas, Connecticut, Delaware, Florida, Georgia, Kentucky, Illinois, Indiana, Louisiana, Maine, Massachusetts, Missouri, Mississippi, New Hampshire, New Jersey, New York, North Carolina, Ohio, Pennsylvania, Rhode Island, South Carolina, Tennessee, Vermont, Virginia, West Virginia); and (11) Hawaii.

The AIANNH project cycle spanned from September 2021 through August 2023 and was extended through August 2024. The one-year extension allowed MBDA to conduct an analysis of current AIANNH projects, outcomes, and impact and to obtain public feedback through Tribal consultation and open comment period for future program design. The current AIANNH project awards will expire in August 2024.

II. Consultation Meetings

The purpose of the consultation meetings is, consistent with E.O. 13175 and DAO 218-8, to provide an accountable and transparent process that ensures meaningful and timely input from Tribal officials regarding MBDA's business development and entrepreneurial services in Indian Country, Alaska, and Hawaii and the implications that these programs have in these communities. The consultation meetings are closed to the public.

III. Questions for Public Comment

Members of the general public are invited to submit responses to the following questions. Please provide comments on any or all of the following issues and identify the specific AIANNH community addressed by these comments:

1. What is the primary challenge (or top three challenges) businesses encounter in AIANNH communities? What solutions do you think would help to address the challenge(s)?

2. What are some best practices that you have seen implemented that positively address the business challenges experienced by your AIANNH community through self-funded and/or externally funded programs (e.g., Federal, State, local government, foundations, etc.)?

3. If you have direct or indirect experience with a MBDA AIANNH project, please provide your thoughts on which services and activities were most beneficial and which could have been more effective.

For comments to be considered, they must include the following identification of the commenter: name; title (if applicable); Tribe, Alaska Native Corporation, or native community (if applicable); organization or business (if applicable); city and state; and they must be submitted in written form at www.regulations.gov. To access the docket where comments may be submitted, please enter “DOC-2024-0003” in the search bar. Comments must be received no later than 11:59 p.m., EDT, Sunday, June 16, 2024.

Dated: April 16, 2024.
Eric Morrissette,
Acting Under Secretary, Minority Business Development Agency, U.S. Department of Commerce.

[FR Doc. 2024-08414 Filed 4-17-24; 11:15 am]

BILLING CODE P